DEPARTMENT OF DEFENSE

Department of the Army

Grant of Exclusive Licenses

AGENCY: U.S. Army Corps of Engineers, DOD.

ACTION: Notice.

SUMMARY: In accordance with 37 CFR 404.7(a)(1)(i), announcement is made of a prospective exclusive license for all fields of use in the manufacture, use, and sale of the Shock Absorbing Block.

DATES: Written objections must be filed not later than November 6, 2001.

ADDRESS: United States Army Corps of Engineers Research and Development Center, Waterways Experiment Station, Attn: CEERD-OP-MS (Mr. Phillip Stewart), 3909 Halls Ferry Road, Vicksburg, MS 39180-6199.

FOR FURTHER INFORMATION CONTACT: Mr. Phillip Stewart, ATTN: CEERD-OP-MS; (601) 634-4113, FAX (601) 634-410; Internet phillip.stewart@erdc.usace.army.mil; U.S. Army Engineer Research and Development Center, Waterways Experiment Station, 3909 Halls Ferry Road, Vicksburg, MS 39180-6199.

SUPPLEMENTARY INFORMATION: This invention relates to a novel and inexpensive shock-absorbing block or wall. Applications include crash cushion barriers on highways and around buildings. Made from scrap rubber tires and foamed concrete, the invention represents a significant advancement over currently available products. Patent number 5,863,483 claims the 1 method of making the block and patent number 5,942,306 claims the manufactured item. The United States of America, as represented by the Secretary of the Army, intends to grant an exclusive license for all fields of use in the manufacture, use, and sale of the Shock Absorbing Block to Camtek Construction Products Corporation, a company with principal offices located in Murrysville, Pennsylvania. Pursuant to 37 CFR 404.7(b)(1)(i), any interested party may file a written objection to this prospective exclusive license agreement.

Richard L. Frenette,
Counsel.

[FR Doc. 01-22442 Filed 9-6-01; 8:45 am]

BILLING CODE 3710-92-P